DEPARTMENT OF HEALTH AND HUMAN SERVICES

Administration for Children and Families

Proposed Information Collection Activity: Title V State Sexual Risk Avoidance Education (SRAE) Program (New Collection)

AGENCY: The Administration on Children, Youth and Families (ACYF); Administration for Children and Families (ACF).

ACTION: Request for public comment.

SUMMARY: The Administration on Children, Youth and Families (ACYF), Family and Youth Services Bureau (FYSB) is accepting mandatory formula grant applications and State Plans from states and territories for the development of and implementation for Title V State Sexual Risk Avoidance Education (SRAE) Program. The Title V State SRAE Funding Opportunity Announcement sets forth the application requirements for the receipt of the following documents from applicants and awardees: Application, State Plan, and Performance Progress Report.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research and Evaluation (OPRE), 330 C Street SW, Washington, DC 20201, Attn: ACF Reports Clearance Officer. All requests, emailed or written, should be identified by the title of the information collection.

SUPPLEMENTARY INFORMATION:

Description: This Notice is to solicit comments from the public on ACYF's proposed information collection documents (application, State Plan, and Performance Progress Report).

Purpose and Use of the Information Collections: The application and State Plan will offer information about the proposed state project and it will be used as the primary basis to determine whether or not the project meets the minimum requirements for the award.

The Performance Progress Report will inform the monitoring of the grantees program design, program evaluation, management improvement, service quality, and compliance with agreed upon goals. ACYF/FYSB will use the information to assure effective service delivery. Finally, the data from this collection will be used to report outcomes and efficiencies and will provide valuable information to policy makers and key stakeholders in the development of program and research efforts.

Respondents: Fifty states and nine territories, to include the District of Columbia, Puerto Rico, Virgin Islands, Guam, American Samoa, Northern Mariana Islands, the Federated States of Micronesia, the Marshall Islands, and Palau.

Annual Burden Estimates
Information collection title | Total number of respondents | Total number of responses per respondent | Average burden hours per response | Total burden hours | Annual burden hours
Application | 59 | 1 | 24 | 1,416 | 472
State Plan | 59 | 3 | 40 | 7,080 | 2,360
Performance Progress Report | 59 | 6 | 16 | 5,664 | 1,888

Estimated Annual Burden Total: 4,702.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

(Authority: Section 510 (42 U.S.C. 710), as amended by Section 50502 (Pub. L. 115-123))

Mary B. Jones,
ACF/OPRE Certifying Officer.

[FR Doc. 2020-06210 Filed 3-24-20; 8:45 am]

BILLING CODE 4184-83-P